DEPARTMENT OF TRANSPORTATION

Surface Transportation Board

49 CFR Part 1111

[STB Ex Parte No. 586]

Arbitration—Various Matters Relating to Its Use as an Effective Means of Resolving Disputes That Are Subject to the Board's Jurisdiction

AGENCY: Surface Transportation Board, DOT.

ACTION: Notice of proposed rulemaking.

SUMMARY: The Board is instituting this proceeding to address various matters relating to arbitration of disputes in lieu of Board adjudication. The Board is proposing to: Update the Board's files regarding qualified arbitrators that are available to handle the types of disputes that could be brought to arbitration under the Board's existing rules at 49 CFR 1108; establish a requirement that a formal complaint include a statement that the complainant has considered arbitration but either decided against it or could not obtain the agreement of the other parties to the dispute; and solicit public comments, in order to assist Congress, by providing a record on whether binding arbitration should be legislatively prescribed for small rate disputes.

DATES: An original and 10 copies of written comments are due by November 23, 2001, and an original and 10 copies of replies are due December 24, 2001. In addition, parties must submit to the Board, on 3.5-inch IBM-compatible floppy diskettes (in, or convertible by and into, Word Perfect 9.0 format) an electronic copy of their comments, including any graphics. The diskettes shall be clearly labeled with the filer's name and the docket number, STB Ex Parte No. 586. Any party may seek a waiver from the electronic submission requirements.¹

¹ Documents transmitted by facsimile (FAX) or electronic mail (e-mail) will not be accepted.

Additionally, all interested qualified persons (those experienced in rail transportation or economic issues similar to those arising before the Board) who wish to be placed on a roster of arbitrators available to arbitrate disputes pursuant to 49 CFR 1108 (including those who previously submitted their names and qualifications in 1997, if they remain available) should submit (or, as relevant, resubmit) an original and 3 copies of their names and qualifications by November 8, 2001.

ADDRESSES: All pleadings, referring to STB Ex Parte No. 586, must be filed with the Surface Transportation Board, Office of the Secretary, Case Control Unit, 1925 K Street, NW., Washington, DC 20423-0001. Copies of the written comments and replies will be available from the Board's contractor, Dā-2-Dā Legal, 1925 K Street, NW., Room 405, Washington, DC 20423-0001, phone (202) 293-7776. The comments and replies will also be available for viewing and self-copying in the Board's Microfilm unit, Room 755, and posted on the Board's Web site (www.stb.dot.gov).

FOR FURTHER INFORMATION CONTACT: Joseph H. Dettmar, (202) 565-1600. (TDD for the hearing impaired: 1-800-877-8339).

SUPPLEMENTARY INFORMATION: Additional information is contained in the Board's decision. To purchase a copy of the decision, write to, call, or pick up in person from Dā-2-Dā Legal. The decision is also posted on the Board's Web site at www.stb.dot.gov.

List of Subjects in 49 CFR Part 1111

Administrative practice and procedure.

Authority: 49 U.S.C. 721(a).

Decided: September 18, 2001.
By the Board, Chairman Morgan, Vice Chairman Clyburn, and Commissioner Burkes.
Vernon A. Williams,
Secretary.

For the reasons set forth in the preamble, title 49, chapter X, part 1111 of the Code of Federal Regulations, is proposed to be amended as follows:

PART 1111—[AMENDED]

1. The authority citation for 1111 continues to read as follows: 49 U.S.C. 721, 10704, and 11701.

2. In § 1111.1(a), paragraph (11) is added to read as follows:

§ 1111.1 Content of formal complaints; joinder.

* * * * *

(a) * * *

(11) For matters for which voluntary, binding arbitration is available pursuant to 49 CFR part 1108, the complaint shall state that arbitration was considered, but rejected, as a means of resolving the dispute.

* * * * *

[FR Doc. 01-23769 Filed 9-21-01; 8:45 am]

BILLING CODE 4915-00-P